DEPARTMENT OF TRANSPORTATION

National Highway Traffic Safety Administration

[Docket No. NHTSA-2019-0078; Notice 1]

Jayco, Inc, Receipt of Petition for Decision of Inconsequential Noncompliance

AGENCY: National Highway Traffic Safety Administration (NHTSA), Department of Transportation (DOT).

ACTION: Receipt of petition.

SUMMARY: Jayco, Inc., (Jayco) has determined that certain model year (MY) 2020 travel trailers, manufactured by Jayco, do not fully comply with Federal Motor Vehicle Safety Standard (FMVSS) No. 110, Tire Selection and Rims and Motor Home/Recreation Vehicle Trailer Load Carrying Capacity Information for Motor Vehicles with a GVWR of 4,536 Kilograms (10,000 Pounds) or Less. Jayco filed a noncompliance report dated July 16, 2019. In coordination with Jayco, Starcraft RV (Starcraft) and Highland Ridge RV (Highland), subsidiaries of Jayco, also filed noncompliance reports dated July 17, 2019. Jayco subsequently petitioned NHTSA on July 31, 2019, and later amended that petition on September 26, 2019 and November 6, 2019, for a decision that the subject noncompliance is inconsequential as it relates to motor vehicle safety. This document announces receipt of Jayco's petition.

DATES: The closing date for comments on the petition is February 5, 2020.

ADDRESSES: Interested persons are invited to submit written data, views, and arguments on this petition. Comments must refer to the docket number and notice number cited in the title of this notice and may be submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000 (65 FR 19477-78).

SUPPLEMENTARY INFORMATION:

I. Overview

Jayco has determined that certain MY 2020 travel trailers, manufactured by Jayco, do not fully comply with paragraph S4.3.5 of FMVSS No. 110, Tire Selection and Rims and Motor Home/Recreation Vehicle Trailer Load Carrying Capacity Information for Motor Vehicles with a GVWR of 4,536 Kilograms (10,000 Pounds) or Less (49 CFR 571.110). Jayco filed a noncompliance report dated July 16, 2019, and in addition, Starcraft and Highland, subsidiaries of Jayco, also filed noncompliance reports dated July 17, 2019, pursuant to 49 CFR part 573, Defect and Noncompliance Responsibility and Reports. Jayco subsequently petitioned NHTSA on July 31, 2019, and later amended that petition on September 26, 2019 and November 6, 2019, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

This notice of receipt of Jayco's petition, is published under 49 U.S.C. 30118 and 30120 and does not represent any Agency decision or other exercises of judgment concerning the merits of the petition.

II. Trailers Involved

Approximately 6,354 MY 2020 Jayco, approximately 1,006 Starcraft, and approximately 814 Highland travel trailers, manufactured between May 1, 2019, and June 27, 2019, are potentially involved.

In Jayco's petition, they stated that the total number of vehicles affected is 8,983, however, that number also includes travel trailers sold in Canada. NHTSA can only grant exemption for vehicles sold in the United States, totaling approximately 8,174 vehicles.

III. Noncompliance

Jayco explains that the noncompliance is that the subject travel trailers are equipped with vehicle placards that show the incorrect vehicle capacity weight and an extra character in the recommended tire inflation pressure and, therefore, do not meet the requirements set forth in paragraph S4.3.5 of FMVSS No. 110. Specifically, the vehicle placards show the vehicle weight capacity as 80 kg when it should be 807 kg. Also, the recommended tire inflation pressure for the rear tire states 552 IKPA and the spare tire states 552 7KPA when they should read 552 KPA.

IV. Rule Requirements

Paragraphs S4.3.5 of FMVSS No. 110 includes the requirements relevant to this petition. Each trailer, except for an incomplete vehicle, must show the information specified in paragraphs S4.3(c) through (g), and may show the information specified in paragraph S4.3(h) and (i), on a placard permanently affixed proximate to the certification label. Each trailer, on the vehicle placard, contains a cargo capacity statement expressed as “The weight of cargo should never exceed XXX kilograms or XXX pounds.” A vehicle manufacturer's recommended cold tire inflation pressure for front, rear, and spare tires, are subject to the limitations of paragraph S4.3.4.

V. Summary of Jayco's Petition

The following views and arguments presented in this section, V. Summary of Jayco's Petition, are the views and arguments provided by Jayco. They have not been evaluated by the Agency and do not reflect the views of the Agency.

Jayco described the subject noncompliance and stated that the noncompliance is inconsequential as it relates to motor vehicle safety. Jayco submitted the following views and arguments in support of the petition:

1. The “should not exceed” weight of cargo shown as 80 kg on the Tire Placard Label is in error and should be 807 kg. Jayco believes this information is redundant in that the cargo carrying capacity (CCC) label depicts the same information required by FMVSS No. 110 paragraph S4.3 and is correctly shown as the 807 kg.

2. The cold tire inflation pressure shown as 552 KPA, 80 PSI, is printed with an extra character for the rear and spare tire. Jayco believes this error is inconsequential to vehicle safety in that the correct information can be found on the sidewall of the tire.

3. The top section of the Federal label depicts the exact same information as the tire placard, with the tire size dimensions and the cold pressure inflation values of 552 KPA/80 PSI.

4. The bottom section of the Federal label depicts the CCC of the trailer including the weights with the fresh water and the waste water tanks full.

5. The owner's manual for Jayco, StarCraft, and Highland instructs an owner on the loading of their vehicle and where to find the required ratings that are displayed on the Federal Certification Label. The owner's manuals are also available on the company website at www.jayco.com.

6. The Manufacturer's Certificate of Origin (MCO) also contains both the Gross Vehicle Weight Rating (GVWR) and the unloaded vehicle weight (UVW). The difference in these two numbers would also give the owner the available CCC of the trailer.

7. The most important time for RV purchasers to have the CCC information is at the point-of-sale. Almost all of the trailers affected by this noncompliance have been purchased already by a consumer. Jayco has had no complaints or inquiries regarding CCC from any of its owners or dealers on the affected models.

8. NHTSA has previously granted similar inconsequential petitions with respect to FMVSS No. 110. See 84 FR 25117 (May 30, 2019).

Jayco concluded that the subject noncompliance is inconsequential as it relates to motor vehicle safety, and that its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject trailers that Jayco no longer controlled at the time it determined that the noncompliance existed. However, any decision on this petition does not relieve vehicle distributors and dealers of the prohibitions on the sale, offer for sale, or introduction or delivery for introduction into interstate commerce of the noncompliant trailers under their control after Jayco notified them that the subject noncompliance existed.

Authority: (49 U.S.C. 30118, 30120: delegations of authority at 49 CFR 1.95 and 501.8).

Otto G. Matheke III,
Director, Office of Vehicle Safety Compliance.

[FR Doc. 2019-28474 Filed 1-3-20; 8:45 am]

BILLING CODE 4910-59-P